DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief Executive Officer of community | Community map repository | Date of modification | Community No.
Arkansas: Sebastian (FEMA Docket No.: B-2049). | City of Fort Smith (19-06-3706P). | The Honorable George B. McGill, Mayor, City of Fort Smith, P.O. Box 1908, Fort Smith, AR 72902. | Department of Engineering, 623 Garrison Avenue, Fort Smith, AR 72901. | Oct. 14, 2020 | 055013
Colorado:
El Paso (FEMA Docket No.: B-2040). | City of Colorado Springs (19-08-0754P). | The Honorable John Suthers, Mayor, City of Colorado Springs, 30 South Nevada Avenue, Suite 601, Colorado Springs, CO 80903. | Pikes Peak Regional Development Center, 2880 International Circle, Colorado Springs, CO 80910. | Oct. 13, 2020 | 080060
El Paso (FEMA Docket No.: B-2040). | City of Fountain (19-08-0957P). | The Honorable Gabriel Ortega, Mayor, City of Fountain, 116 South Main Street, Fountain, CO 80817. | Pikes Peak Regional Development Center, 2880 International Circle, Colorado Springs, CO 80910. | Oct. 13, 2020 | 080061
El Paso (FEMA Docket No.: B-2040). | Town of Monument (20-08-0011P). | The Honorable Don Wilson, Mayor, Town of Monument, 645 Beacon Lite Road, Monument, CO 80132. | Pikes Peak Regional Development Center, 2880 International Circle, Colorado Springs, CO 80910. | Oct. 14, 2020 | 080064
El Paso (FEMA Docket No.: B-2040). | Unincorporated areas of El Paso County (19-08-0957P). | The Honorable Mark Waller, Chairman, El Paso County Board of Commissioners, 200 South Cascade Avenue, Suite 100, Colorado Springs, CO 80903. | Pikes Peak Regional Development Center, 2880 International Circle, Colorado Springs, CO 80910. | Oct. 13, 2020 | 080059
El Paso (FEMA Docket No.: B-2040). | Unincorporated areas of El Paso County (20-08-0011P). | The Honorable Mark Waller, Chairman, El Paso County Board of Commissioners, 200 South Cascade Avenue, Suite 100, Colorado Springs, CO 80903. | Pikes Peak Regional Development Center, 2880 International Circle, Colorado Springs, CO 80910. | Oct. 14, 2020 | 080059
Larimer (FEMA Docket No.: B-2049). | Unincorporated areas of Larimer County (20-08-0140P). | The Honorable Steve Johnson, Chairman, Larimer County Board of Commissioners, 200 West Oak Street, Suite 2200, Fort Collins, CO 80521. | Larimer County Engineering Department, 200 West Oak Street, Suite 3000, Fort Collins, CO 80521. | Oct. 13, 2020 | 080101
Connecticut: Fairfield (FEMA Docket No.: B-2049). | Town of Westport (19-01-1183P). | The Honorable James Marpe, First Selectman, Town of Westport Board of Selectmen, 110 Myrtle Avenue, Westport, CT 06880. | Planning and Zoning Department, 110 Myrtle Avenue, Westport, CT 06880. | Oct. 13, 2020 | 090019
Florida:
Collier (FEMA Docket No.: B-2042). | City of Marco Island (20-04-1872P). | Mr. Mike McNees, Manager, City of Marco Island, 50 Bald Eagle Drive, Marco Island, FL 34145. | Building Services Department, 50 Bald Eagle Drive, Marco Island, FL 34145. | Oct. 15, 2020 | 120426
Lee (FEMA Docket No.: B-2049). | City of Bonita Springs (19-04-5595P). | The Honorable Peter Simmons, Mayor, City of Bonita Springs, 9101 Bonita Beach Road, Bonita Springs, FL 34135. | Community Development Department, 9220 Bonita Beach Road, Bonita Springs, FL 34135. | Oct. 13, 2020 | 120680
Lee (FEMA Docket No.: B-2049). | Unincorporated areas of Lee County (19-04-5595P). | Mr. Roger Desjarlais, Manager, Lee County, 2120 Main Street, Fort Myers, FL 33901. | Lee County Building Department, 1500 Monroe Street, Fort Myers, FL 33901. | Oct. 13, 2020 | 125124
Osceola (FEMA Docket No.: B-2042). | City of St. Cloud (19-04-5088P). | Mr. William Sturgeon, Manager, City of St. Cloud, 1300 9th Street, St. Cloud, FL 34769. | Building Department, 1300 9th Street, St. Cloud, FL 34769. | Oct. 13, 2020 | 120191
Osceola (FEMA Docket No.: B-2042). | Unincorporated areas of Osceola County (19-04-5088P). | The Honorable Viviana Janer, Chair, Osceola County Board of Commissioners, 1 Courthouse Square, Suite 4700, Kissimmee, FL 34741. | Osceola County Stormwater Department, 1 Courthouse Square, Suite 3100, Kissimmee, FL 34741. | Oct. 13, 2020 | 120189
Sarasota (FEMA Docket No.: B-2040). | Unincorporated areas of Sarasota (20-04-2329P). | The Honorable Charles D. Hines, Chairman, Sarasota County Board of Commissioners, 1660 Ringling Boulevard, Sarasota, FL 34236. | Sarasota County Planning and Development Services Department, 1001 Sarasota Center Boulevard, Sarasota, FL 34240. | Oct. 13, 2020 | 125144
Georgia:
Chatham (FEMA Docket No.: B-2040). | City of Savannah (19-04-5445P). | The Honorable Eddie Deloach, Mayor, City of Savannah, P.O. Box 1027, Savannah, GA 31402. | Development Services Department, 5515 Abercorn Street, Savannah, GA 31405. | Oct. 13, 2020 | 135163
Gwinnett (FEMA Docket No.: B-2049). | Unincorporated areas of Gwinnett County (19-04-6977P). | The Honorable Charlotte J. Nash, Chair, Gwinnett County Board of Commissioners, 751 Langley Drive, Lawrenceville, GA 30046. | Gwinnett County Department of Planning and Development, 446 West Crogan Street, Lawrenceville, GA 30046. | Oct. 15, 2020 | 130322
Maine:
Washington (FEMA Docket No.: B-2043). | Town of Alexander (20-01-0495P). | The Honorable Foster Carlow Jr., Chairman, Town of Alexander Board of Selectmen, 50 Cooper Road, Alexander, ME 04694. | Town Hall, 50 Cooper Road, Alexander, ME 04694. | Oct. 19, 2020 | 230303
Washington (FEMA Docket No.: B-2043). | Town of Baileyville (20-01-0495P). | Mr. Chris Loughlin, Town of Baileyville Manager, P.O. Box 370, Baileyville, ME 04694. | Town Hall, 63 Broadway, Baileyville, ME 04694. | Oct. 19, 2020 | 230304
Washington (FEMA Docket No.: B-2043). | Town of Baileyville (20-01-0623P). | Mr. Chris Loughlin, Town of Baileyville Manager, P.O. Box 370, Baileyville, ME 04694. | Town Hall, 63 Broadway, Baileyville, ME 04694. | Oct. 15, 2020 | 230304
Washington (FEMA Docket No.: B-2052). | Town of Dennysville (20-01-0179P) | The Honorable Dawn Noonan, Chair, Town of Dennysville Board of Selectmen, P.O. Box 70, Dennysville, ME 04628. | Town Hall, 2 Main Street, Dennysville, ME 04628. | Oct. 15, 2020 | 230312
Washington (FEMA Docket No.: B-2052). | Town of Pembroke (20-01-0179P). | The Honorable Milan Jamieson, Chairman, Town of Pembroke, Board of Selectmen, P.O. Box 247, Pembroke, ME 04666. | Town Hall, 48 Old County Road, Pembroke, ME 04666. | Oct. 15, 2020 | 230143
Washington (FEMA Docket No.: B-2052). | Town of Perry (20-01-0179P). | The Honorable Ann Bellefleur, Chair, Town of Perry Board of Selectmen, P.O. Box 430, Perry, ME 04667. | Town Hall, 898 U.S. Route 1, Perry, ME 04667. | Oct. 15, 2020 | 230319
Washington (FEMA Docket No.: B-2043). | Town of Princeton (20-01-0495P). | The Honorable Scott Carle, Chairman, Town of Princeton Board of Selectmen, P.O. Box 408, Princeton, ME 04668. | Town Hall, 15 Depot Street, Princeton, ME 04668. | Oct. 19, 2020 | 230320
Washington (FEMA Docket No.: B-2043). | Town of Princeton (20-01-0623P). | The Honorable Scott Carle, Chairman, Town of Princeton Board of Selectmen, P.O. Box 408, Princeton, ME 04668. | Town Hall, 15 Depot Street, Princeton, ME 04668. | Oct. 15, 2020 | 230320
Washington (FEMA Docket No.: B-2052). | Town of Robbinston (20-01-0179P). | The Honorable Tom Moholland, Chairman, Town of Robbinston Board of Selectmen, 986 Ridge Road, Robbinston, ME 04671. | Town Hall, 986 Ridge Road, Robbinston, ME 04671. | Oct. 15, 2020 | 230321
Washington (FEMA Docket No.: B-2043). | Town of Vanceboro (20-01-0424P). | The Honorable Harold J. Jordan, Chairman, Town of Vanceboro Board of Selectmen, P.O. Box 24, Vanceboro, ME 04491. | Town Hall, 101 High Street, Vanceboro, ME 04491. | Oct. 16, 2020 | 230325
Washington (FEMA Docket No.: B-2043). | Township of Lambert Lake (20-01-0424P). | Ms. Stacie Beyer, Chief Planner, Land Use Planning Commission, Township of Lambert Lake, 18 Elkins Lane, Augusta, ME 04333. | Township Hall, 18 Elkins Lane, Augusta, ME 04333. | Oct. 16, 2020 | 230472
York (FEMA Docket No.: B-2042). | Town of York (20-01-0642P). | The Honorable Todd A. Frederick, Chairman, Town of York Board of Selectmen, 186 York Street, York, ME 03909. | Planning Department, 186 York Street, York, ME 03909. | Oct. 13, 2020 | 230159
Mississippi:
DeSoto (FEMA Docket No.: B-2052). | Unincorporated areas of DeSoto County (19-04-3965P). | The Honorable Jessie Medlin, President, DeSoto County Board of Supervisors, 365 Losher Street, Suite 300, Hernando, MS 38632. | DeSoto County Planning and Building Department, 365 Losher Street, Suite 200, Hernando, MS 38632. | Oct. 16, 2020 | 280050
Harrison (FEMA Docket No.: B-2049). | City of Long Beach (20-04-3634P). | The Honorable George L. Bass, Mayor, City of Long Beach, 201 Jeff Davis Avenue, Long Beach, MS 39560. | Department of Permits and Zoning, 201 Jeff Davis Avenue, Long Beach, MS 39560. | Oct. 13, 2020 | 285257
New Mexico: Dona Ana (FEMA Docket No.: B-2042). | City of Sunland Park (19-06-3737P). | The Honorable Javier Perea, Mayor, City of Sunland Park, 1000 McNutt Road, Suite A, Sunland Park, NM 88063. | Community Services Department, 950 McNutt Road, Sunland Park, NM 88063. | Oct. 14, 2020 | 350147
South Carolina: Charleston (FEMA Docket No.: B-2042). | City of Isle of Palms (20-04-2572P). | The Honorable Jimmy Carroll, Mayor, City of Isle of Palms, 1207 Palm Boulevard, Isle of Palms, SC 29451. | Building and Planning Department, 1207 Palm Boulevard, Isle of Palms, SC 29451. | Oct. 19, 2020 | 455416
South Dakota:
Lawrence (FEMA Docket No.: B-2042). | City of Spearfish (19-08-0882P). | The Honorable Dana Boke, Mayor, City of Spearfish, 625 North 5th Street, Spearfish, SD 57783. | Building and Development Department, 625 North 5th Street, Spearfish, SD 57783. | Oct. 16, 2020 | 460046
Pennington (FEMA Docket No.: B-2049). | City of Rapid City (20-08-0020P). | The Honorable Steve Allender, Mayor, City of Rapid City, 300 6th Street, Rapid City, SD 57701. | Public Works Department, Engineering Services Division, 300 6th Street, Rapid City, SD 57701. | Oct. 19, 2020 | 465420
Texas:
Bell (FEMA Docket No.: B-2049). | City of Nolanville (19-06-1647P). | The Honorable Andy Williams, Mayor, City of Nolanville, 101 North 5th Street, Nolanville, TX 76559. | City Hall, 101 North 5th Street, Nolanville, TX 76559. | Oct. 14, 2020 | 480032
Bexar (FEMA Docket No.: B-2049). | City of Converse (19-06-1746P). | The Honorable Al Suarez, Mayor, City of Converse, 403 South Seguin, Converse, TX 78109. | City Hall, 403 South Seguin, Converse, TX 78109. | Oct. 19, 2020 | 480038
Bexar (FEMA Docket No.: B-2049). | City of Universal City (19-06-1746P). | The Honorable John Williams, Mayor, City of Universal City, 2150 Universal City Boulevard, Universal City, TX 78148. | Department of Stormwater, 2150 Universal City Boulevard, Universal City, TX 78148. | Oct. 19, 2020 | 480049
Collin (FEMA Docket No.: B-2043). | City of Celina (19-06-2644P). | The Honorable Sean Terry, Mayor, City of Celina, 142 North Ohio Street, Celina, TX 75009. | City Hall, 142 North Ohio Street, Celina, TX 75009. | Oct. 13, 2020 | 480133
Collin (FEMA Docket No.: B-2042). | City of McKinney (19-06-3345P). | Mr. Paul Grimes, Manager, City of McKinney, 222 North Tennessee Street, McKinney, TX 75069. | Department of Engineering, 221 North Tennessee Street, McKinney, TX 75069. | Oct. 13, 2020 | 480135
Collin (FEMA Docket No.: B-2043). | Unincorporated areas of Collin County (19-06-2644P). | The Honorable Chris Hill, Collin County Judge, 2300 Bloomdale Road, Suite 4192, McKinney, TX 75071. | Collin County Engineering Department, 4690 Community Avenue, Suite 200, McKinney, TX 75071. | Oct. 13, 2020 | 480130
Collin (FEMA Docket No.: B-2042). | Unincorporated areas of Collin County (19-06-3345P). | The Honorable Chris Hill, Collin County Judge, 2300 Bloomdale Road, Suite 4192, McKinney, TX 75071. | Collin County Engineering Department, 4690 Community Avenue, Suite 200, McKinney, TX 75071. | Oct. 13, 2020 | 480130
Denton (FEMA Docket No.: B-2040). | City of Roanoke (19-06-2882P). | The Honorable Scooter Gierisch, Jr., Mayor, City of Roanoke, 500 South Oak Street, Roanoke, TX 76262. | City Hall, 500 South Oak Street, Roanoke, TX 76262. | Oct. 14, 2020 | 480785
Midland (FEMA Docket No.: B-2043). | City of Midland (19-06-2755P). | The Honorable Patrick Payton, Mayor, City of Midland, 300 North Loraine Street, Midland, TX 79701. | City Hall, 300 North Loraine Street, Midland, TX 79701. | Oct. 15, 2020 | 480477
Tarrant (FEMA Docket No.: B-2043). | City of Haslet (19-06-2524P). | The Honorable Bob Golden, Mayor, City of Haslet, 101 Main Street, Haslet, TX 76052. | Engineering and Public Works Department, 101 Main Street, Haslet, TX 76052. | Oct. 15, 2020 | 480600
Utah: Washington (FEMA Docket No.: B-2042). | Unincorporated areas of Washington County (19-08-1063P). | The Honorable Victor Iverson, Chairman, Washington County Commission, 197 East Tabernacle Street, St. George, UT 84770. | Washington County Administration Building, 197 East Tabernacle Street, St. George, UT 84770. | Oct. 15, 2020 | 490224
Virginia:
Frederick (FEMA Docket No.: B-2043). | City of Winchester (20-03-0437P). | The Honorable John David Smith, Jr., Mayor, City of Winchester, 15 North Cameron Street, Winchester, VA 22601. | City Hall, 15 North Cameron Street, Winchester, VA 22601. | Oct. 19, 2020 | 510173
Frederick (FEMA Docket No.: B-2043). | Unincorporated areas of Frederick County (20-03-0437P). | The Honorable Charles S. DeHaven, Jr., Chairman-at-Large, Frederick County, Board of Supervisors, 107 North Kent Street, Winchester, VA 22601. | Frederick County Zoning Department, 107 North Kent Street, Winchester, VA 22601. | Oct. 19, 2020 | 510063
Stafford (FEMA Docket No.: B-2044). | Unincorporated areas of Stafford County (20-03-0607P). | Mr. Thomas C. Foley, Stafford County Administrator, 1300 Courthouse Road, Stafford, VA 22554. | Stafford County Department of Public Works, Environmental Division, 2126 Jefferson Highway, Suite 203, Stafford, VA 22554. | Oct. 19, 2020 | 510154
Washington DC: (FEMA Docket No.: B-2043). | District of Columbia (20-03-0337P). | The Honorable Muriel Bowser, Mayor, District of Columbia, 1350 Pennsylvania Avenue Northwest, Washington, DC 20004. | Department of Energy and Environment, 1200 1st Street Northeast, Suite 500, Washington, DC 20002. | Oct. 19, 2020 | 110001

[FR Doc. 2020-25346 Filed 11-17-20; 8:45 am]

BILLING CODE 9110-12-P